DEPARTMENT OF ENERGY

Federal Energy Regulatory Commission

Combined Notice of Filings #2

Take notice that the Commission received the following exempt wholesale generator filings:

Docket Numbers: EG18-1-000.

Applicants: Friendswood Energy Genco, LLC.

Description: Notice of Self-Certification of Exempt Wholesale Generator Status.

Filed Date: 10/4/17.

Accession Number: 20171004-5058.

Comments Due: 5 p.m. ET 10/25/17.

Take notice that the Commission received the following electric rate filings:

Docket Numbers: ER17-2292-001.

Applicants: Southampton Solar, LLC.

Description: Tariff Amendment: Amendment to Tariff to be effective10/6/2017.

Filed Date: 10/4/17.

Accession Number: 20171004-5133.

Comments Due: 5 p.m. ET 10/25/17.

Docket Numbers: ER18-22-000.

Applicants: PPL Electric Utilities Corporation, PJM Interconnection, L.L.C.

Description: § 205(d) Rate Filing: PPL submits revisions to OATT, Attachment H-8G re: Depreciation Rate to be effective 1/1/2018.

Filed Date: 10/4/17.

Accession Number: 20171004-5042.

Comments Due: 5 p.m. ET 10/25/17.

Docket Numbers: ER18-23-000.

Applicants: Midcontinent Independent System Operator, Inc.

Description: § 205(d) Rate Filing: 2017-10-04_SA 3012 Wisconsin Power & Light-ATC 1st Revised GIA (J390) to be effective 9/20/2017.

Filed Date: 10/4/17.

Accession Number: 20171004-5067.

Comments Due: 5 p.m. ET 10/25/17.

Docket Numbers: ER18-24-000.

Applicants: Southwest Power Pool, Inc.

Description: § 205(d) Rate Filing: Westar Energy Formula Rate Revisions to be effective 3/14/2017.

Filed Date: 10/4/17.

Accession Number: 20171004-5105.

Comments Due: 5 p.m. ET 10/25/17.

Docket Numbers: ER18-25-000.

Applicants: Southwest Power Pool, Inc.

Description: § 205(d) Rate Filing: Oklahoma Gas and Electric Company Formula Rate Revisions to be effective 7/1/2016.

Filed Date: 10/4/17.

Accession Number: 20171004-5127.

Comments Due: 5 p.m. ET 10/25/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 4, 2017.
Nathaniel J. Davis, Sr.,
Deputy Secretary.

[FR Doc. 2017-21839 Filed 10-10-17; 8:45 am]

BILLING CODE 6717-01-P